ENVIRONMENTAL PROTECTION AGENCY

[EPA-HQ-OAR-2023-0117; FRL-12629-01-OMS]

Agency Information Collection Activities; Submission to the Office of Management and Budget for Review and Approval; Comment Request; NESHAP for Benzene Emissions From Benzene Storage Vessels and Coke Oven By-Product Recovery Plants (Renewal)

AGENCY: Environmental Protection Agency (EPA).

ACTION: Notice.

SUMMARY: The Environmental Protection Agency (EPA) has submitted an information collection request (ICR), NESHAP for Benzene Emissions from Benzene Storage Vessels and Coke Oven By-Product Recovery Plants (EPA ICR Number 1080.17, OMB Control Number 2060-0185) to the Office of Management and Budget (OMB) for review and approval in accordance with the Paperwork Reduction Act. This is a proposed extension of the ICR, which is currently approved through February 28, 2025. Public comments were previously requested via the Federal Register on May 18, 2023 during a 60-day comment period. This notice allows for an additional 30 days for public comments.

DATES: Comments may be submitted on or before March 31, 2025.

ADDRESSES: Submit your comments, referencing Docket ID Number EPA-HQ-OAR-2023-0117, to EPA online using www.regulations.gov (our preferred method), by email to a-and-r-docket@epa.gov or by mail to: EPA Docket Center, Environmental Protection Agency, Mail Code 28221T, 1200 Pennsylvania Ave. NW, Washington, DC 20460. EPA's policy is that all comments received will be included in the public docket without change including any personal information provided, unless the comment includes profanity, threats, information claimed to be Confidential Business Information (CBI) or other information whose disclosure is restricted by statute.

Submit written comments and recommendations to OMB for the proposed information collection within 30 days of publication of this notice to www.reginfo.gov/public/do/PRAMain. Find this particular information collection by selecting “Currently under 30-day Review—Open for Public Comments” or by using the search function.

FOR FURTHER INFORMATION CONTACT: Muntasir Ali, Sector Policies and Program Division, Office of Air Quality Planning and Standard, D243-05, Environmental Protection Agency, 1200 Pennsylvania Ave. NW, Washington, DC 20460; telephone number: (919) 541-0833; email address: ali.muntasir@epa.gov.

SUPPLEMENTARY INFORMATION: This is a proposed extension of the ICR, which is currently approved through February 28, 2025. An agency may not conduct or sponsor and a person is not required to respond to a collection of information unless it displays a currently valid OMB control number.

Public comments were previously requested via the Federal Register on May 18, 2023 during a 60-day comment period (88 FR 31748). This notice allows for an additional 30 days for public comments. Supporting documents, which explain in detail the information that the EPA will be collecting, are available in the public docket for this ICR. The docket can be viewed online at www.regulations.gov or in person at the EPA Docket Center, WJC West, Room 3334, 1301 Constitution Ave. NW, Washington, DC. The telephone number for the Docket Center is 202-566-1744. For additional information about EPA's public docket, visit http://www.epa.gov/dockets.

Abstract: The NESHAP for Coke Oven By-Product Recovery Plants (40 CFR part 61, subpart L) were promulgated on September 14, 1989 (54 FR 38073) and amended on February 12, 1999 (64 FR 7458). These regulations apply to each of the following benzene emission sources at furnace and foundry coke by-product recovery plants: tar decanters, tar storage tanks, tar-intercepting sumps, flushing-liquor circulation tanks, light-oil sumps, light-oil condensers, light-oil decanters, wash-oil decanters, wash-oil circulation tanks, naphthalene processing, final coolers, final-cooler cooling towers, and equipment intended to operate in benzene service, including: pumps, valves, exhausters, pressure relief devices, sampling connection systems, open-ended valves or lines, flanges or other connectors, and other control devices or systems. The provisions of this subpart also apply to benzene storage tanks, BTX (benzene-toluene-xylene) storage tanks, light-oil storage tanks, and excess ammonia-liquor storage tanks at furnace coke by-product recovery plants. This information is being collected to assure compliance with 40 CFR part 61, subpart L.

The NESHAP for Benzene Emissions from Benzene Storage Vessels (40 CFR part 61, subpart Y) were promulgated on September 14, 1989 (54 FR 38077) and amended on December 14, 2000 (65 FR 78268). These standards apply to each benzene storage vessel with a design storage capacity greater than or equal to 38 cubic meters (10,000 gallons). This subpart does not apply to: (1) storage vessels used for storing benzene at coke by-product facilities; (2) vessels permanently attached to motor vehicles—such as trucks, rail cars, barges or ships; and (3) pressure vessels designed to operate in excess of 204.9 kPa (29.72 psia) and without emissions to the atmosphere. This information is being collected to assure compliance with 40 CFR part 61, subpart Y.

Form Numbers: None.

Respondents/affected entities: Benzene storage vessels and coke by-product recovery plants.

Respondent's obligation to respond: Mandatory (40 CFR part 61, subparts L and Y).

Estimated number of respondents: Seven (total).

Frequency of response: Occasionally, semiannually, and annually.

Total estimated burden: 1,130 hours (per year). Burden is defined at 5 CFR 1320.03(b).

Total estimated cost: $143,000 (per year), which includes $0 annualized capital or operation & maintenance costs.

Changes in the estimates: There is a decrease of 2,090 hours in the total estimated respondent burden compared with the ICR currently approved by OMB due to an adjustment decrease in the number of respondents subject to 40 CFR part 61, subparts L and Y based on our consultation with industry. There are no program changes.

Courtney Kerwin,
Director, Information Engagement Division.

[FR Doc. 2025-03254 Filed 2-27-25; 8:45 am]

BILLING CODE 6560-50-P